DEPARTMENT OF AGRICULTURE

Food and Nutrition Service

7 CFR Part 273

RIN 0584-AE57

Supplemental Nutrition Assistance Program: Requirements for Able-Bodied Adults Without Dependents; Reopening of Comment Period

AGENCY: Food and Nutrition Service (FNS), USDA.

ACTION: Proposed rule; reopening of comment period.

SUMMARY: This proposed rule seeks to amend the regulatory standards by which the U.S. Department of Agriculture evaluates State Supplemental Nutrition Assistance Program (SNAP) agency requests to waive the time limit and to end the unlimited carryover of able-bodied adults without dependents (ABAWD) percentage exemptions. The proposed rule would encourage broader application of the statutory ABAWD work requirement, consistent with the Administration's focus on fostering self-sufficiency. The original comment period for this proposed rule ended on April 2, 2019. FNS seeks to reopen the comment period on April 8, 2019, for a period of 3 days ending April 10, 2019.

DATES: The comment period for the information collection requirements published on February 2, 2019, 84 FR 980, has been reopened from April 8, 2019, through April 10, 2019. To be assured of consideration, comments must be received on or before April 10, 2019.

ADDRESSES: The Food and Nutrition Service, USDA, invites interested persons to submit written comments on this proposed rule. Comments may be submitted in writing by one of the following methods:

• Preferred Method: Federal eRulemaking Portal: Go to http://www.regulations.gov. Follow the online instructions for submitting comments.

• Mail: Send comments to Certification Policy Branch, Program Development Division, FNS, 3101 Park Center Drive, Alexandria, Virginia 22302.

• All written comments submitted in response to this proposed rule will be included in the record and will be made available to the public. Please be advised that the substance of the comments and the identity of the individuals or entities submitting the comments will be subject to public disclosure. FNS will make the written comments publicly available on the internet via http://www.regulations.gov.

FOR FURTHER INFORMATION CONTACT: Certification Policy Branch, Program Development Division, FNS, 3101 Park Center Drive, Alexandria, Virginia 22302. SNAPCPBRules@fns.usda.gov.

SUPPLEMENTARY INFORMATION: The Food and Nutrition Service (FNS) is reopening the public comment period for this proposed rule, which was published on February 1, 2019. FNS believes that affected parties need to be informed as soon as possible of the extension and its length.

Dated: April 3, 2019.
Brandon Lipps,
Administrator, Food and Nutrition Service.

[FR Doc. 2019-06878 Filed 4-5-19; 8:45 am]

BILLING CODE 3410-30-P